DEPARTMENT OF THE INTERIOR

Bureau of Land Management

[ID-220-1220-MA]

Notice of Continuation of Temporary Closure of Castle Rocks State Park and Castle Rocks Inter-Agency Recreation Area Near Almo, ID

AGENCY: Bureau of Land Management, Interior.

ACTION: Notice.

SUMMARY: The Bureau of Land Management announces the continuation of temporary closure of certain public lands in Cassia County. This closure prohibits bolting and placement of fixed anchors to rocks, and overnight camping. This is to allow further time for analysis of a fixed anchor management plan.

DATES: A temporary closure in this area is now in place (70 FR 33651, June 24, 2005), currently set to expire on June 1, 2006. This notice will continue the closure for another year, to remain in effect through June 1, 2007.

Effective Date: This extension of closure is effective June 1, 2006 and shall remain effective until June 1, 2007.

FOR FURTHER INFORMATION CONTACT: Dennis Thompson, Burley Field Office, 200 South 15 East, Burley, ID. 83318. Telephone (208) 677-6641.

SUPPLEMENTARY INFORMATION: The public lands affected by this closure are all lands administered by the BLM within T. 15 S., R. 24 E., Sec. 8, Boise Meridian. This area is known as Castle Rocks State Park and Castle Rocks Inter-Agency Recreation Area. A closure notice including time periods will be posted near the entry point at the Castle Rocks Ranch House.

Authority: This notice is issued under the authority of the 43 CFR 8364.1. Violations of this closure are punishable by a fine not to exceed $1,000 or imprisonment not to exceed 12 months. Persons who are administratively exempt from the closure contained in this notice include: any Federal, State or local officer or employee acting within the scope of their duties, members of any organized rescue or fire-fighting force in the performance of an official duty, and any person holding written authorization from the BLM.

Dated: April 17, 2006.
Kenneth E. Miller,
Burley Field Office Manager.

[FR Doc. E6-12636 Filed 8-3-06; 8:45 am]

BILLING CODE 4310-GG-P